DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by February 28, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Reporting and Recordkeeping Requirements under Regulations (Other than Rules of Practice) Under the Perishable Agricultural Commodities Act, 1930.

OMB Control Number: 0581-0031.

Summary of Collection: The Perishable Agricultural Commodities Act (PACA) (7 U.S.C. 499a-499t) and PACA Regulations (7 CFR part 46) require nearly all persons who operate as commission merchants, dealers, and brokers buying or selling fruits and/or vegetables in interstate or foreign commerce to be licensed. The PACA requires that all parties fulfill their contractual obligations, and provides a forum for resolving contract disputes. Those who engage in practices prohibited by the PACA may have their licenses suspended or revoked. The license is effective for three (3) years for retailers and grocery wholesalers, unless withdrawn by USDA for valid reasons [7 CFR 46.9 (a)-(h)], and must be renewed on a triennial basis. The license for all other licensees will then be effective for one year, unless withdrawn by USDA for valid reasons [7 CFR 46.9 (a)-(h)] and must be renewed on an annual basis. Also, licensees must report changes in principals, stockholders, home addresses, and business locations to allow for proper notification in the event of a dispute. Sections 3 and 4 of the PACA and Sections 46.3 through 46.13 of the Regulations establish the requirement for licensing and the type of information that must be reported. The Division also asks that each licensee provide a business email address in the event that the licensee wishes to receive license or other PACA program information electronically. Section 9 of the PACA and Sections 46.14 through 46.32 of the Regulations define the type of business records that licensees must maintain. Businesses also provide federal tax identification numbers per USDA's National Finance Center (NFC) which handles all financial transactions for the PACA Division. NFC is required by the Internal Revenue Service to report refunds to businesses as taxable income. USDA had previously considered the possibility of requiring licensees to provide a standard numerical business identifier, such as the DUNS Number (Dun and Bradstreet's Data Universal Numbering System). However, this requirement for this identifier has been delayed indefinitely.

Need and Use of the Information: The information gathered on the following forms and business records is required by the PACA and the PACA Regulations. The information is used to adjudicate reparation and administrative complaints filed against licensees to determine the imposition of sanctions on firms and responsibly connected individuals who have engaged in unfair trading practices. If this information was unavailable, it would be impossible to identify and regulate individuals or firms that are restricted due to sanctions imposed because of reparation or administrative actions. Due to a recent AMS reorganization, PACA Division is now under the Fair Trade Practices Program (FTPP).

Description of Respondents: Business or other for-profit.

Number of Respondents: 9,178.

Frequency of Responses: Recordkeeping; Reporting: On occasion.

Total Burden Hours: 87,450.

Agricultural Marketing Service

Title: Child Nutrition Labeling Program.

OMB Control Number: 0581-0261.

Summary of Collection: The CN Labeling Program is a voluntary technical assistance program, developed and implemented in 1984. The program is designed to aid schools and institutions participating in the National School Lunch Program (NSLP), School Breakfast Program (SBP), Child and Adult Care Food Program (CACFP), and Summer Food Service Program (SFSP), by determining the contribution a commercial product makes toward the meal pattern requirements of these programs.

The National School Lunch Act (NSLA) was enacted as a measure of national security, to safeguard the health and well being of the nation's children and encourage the domestic consumption of agricultural commodities through federally supported school lunch programs. Section 9 (a) of the Act provides that “Lunches served by schools participating in the school lunch program . . . shall meet minimum nutritional requirements prescribed by the Secretary on the basis of nutritional research.” Public Law 90-302 enacted in 1968 amended the NSLA and established the Special Food Service Program for Children (SFSPFC). This was a pilot program consisting of the forerunners to the Child Care Food Program and Summer Food Service Program. The SFSPFC was created in response to the growing number of working mothers and their children's need for good nutrition when not attending school. Food service programs for children were further strengthened in 1975 when Congress separated the Child Care Food Program and Summer Food Service components of the SFSPFC and provided each with legislative authorization. The National School Lunch Act mandates the establishment of meal pattern requirements for the Summer Food Service Program (section 13(f)) and for the Child Care Food Program (section 17(g)). The Child Nutrition Act of 1966 was enacted to strengthen and expand food service programs for children. Section 4(e) mandates minimum nutritional requirements for the SBP.

The Child Nutrition Labeling Program evolved in response to a need by child nutrition food service personnel to determine the contribution foods make toward the meal pattern requirements of the Child Nutrition Programs. During the 1970's, changes and expansion in food technology and marketing increased the availability and use of commercially prepared products such as beef patties and combination food items (burritos, pizzas, etc.) in the Child Nutrition Programs. These products posed a problem for food service personnel. It was difficult at the point of sale to determine their contribution towards the food based meal pattern requirements and assure compliance with Federal regulations for serving specific amounts of food. With the anticipation of increased sales of these products to the Child Nutrition Programs, FNS was prompted to form an evaluation committee to determine a means for properly evaluating the contribution of these products in meeting the meal pattern requirements. The Committee, composed of Food and Nutrition Service (FNS), Food Safety Inspection Service (FSIS), Agricultural Marketing Service (AMS), and National Marine Fisheries Service (NMFS) staff worked together to recommend, design, and implement the CN Labeling Program to review and monitor such products.

The Child Nutrition Labeling Program is implemented in conjunction with existing label approval programs administered by the Food Safety and Inspection Service (FSIS), and the U.S. Department of Commerce (DoC). To participate in the CN Labeling Program, industry submits labels to AMS of products that are in conformance with the FSIS label approval program (for meat and poultry), and the DoC label approval program (for seafood products).

Need and Use of the Information: AMS To participate in the CN Labeling Program, a food manufacturer submits a label application to AMS for each food item they wish to market with a CN label. The CN label statement indicates the portion size and what that portion provides towards the meal pattern requirements. AMS reviews the product formulation to determine if the CN label statement is accurate. The burden accounted for includes the CN elements of the form only (AMS reviews boxes 4, 5a, 9, 15, and 16 and it is estimated to take 15 minutes to complete). If the CN label is correct and complies with CN Labeling requirements, AMS places a CN stamp of approval on the FSIS Form 7234-1 (OMB approval number: 0583-0092) (which food manufacturers use to submit their CN label applications). Once the label is approved it can be used by the manufacturer. The existence of a CN label on a product assures schools and other CN program operators that the product contributes to the meal pattern requirements as stated on the label.

There is no Federal requirement that commercially prepared products have CN label statements. The decision to require that products used in the Child Nutrition Programs contain a CN label statement is left to the local schools, child-care or summer institutions, or States administering these programs. However, the CN Labeling Program plays a significant role in the food service management of Child Nutrition Programs. The scope and use of products labeled under the CN Labeling Program have continually expanded. The continued requests for CN labels by food manufacturers and food service directors are due to the following: (1) The increased use of commercially prepared products, (2) the requirement by some States that applicable processed donated food products bear a CN label statement, and (3) increased use of the CN label as a requirement in purchase specifications prepared by local school food authorities. In addition, support for the use of CN label statements has come from the Inspector General, food trade associations and the National Advisory Council on Child Nutrition. These groups believe that a broad CN Labeling Program could help assure compliance with food based meal patterns.

Description of Respondents: Business or other for-profit.

Number of Respondents: 203.

Frequency of Responses: Reporting: On Occasion.

Total Burden Hours: 203.

Levi S. Harrell,
Departmental Information Collection Clearance Officer.

[FR Doc. 2024-01704 Filed 1-26-24; 8:45 am]

BILLING CODE 3410-02-P